ENVIRONMENTAL PROTECTION AGENCY

[ER-FRL-6962-5]

Designation of Dredged Material Disposal Sites in Rhode Island Sound and Adjacent Waters, Rhode Island and Massachusetts. Intent To Prepare an Environmental Impact Statement

AGENCIES: U.S. Environmental Protection Agency (EPA)—Region I, New England in cooperation with the U.S. Army Corps of Engineers (Corps), New England District.

ACTION: Notice of Intent to prepare an Environmental Impact Statement (EIS) to consider the potential designation of one or more long term dredged material disposal sites in the region of Rhode Island Sound under section 102(c) of the Marine Protection, Research and Sanctuaries Act. The EIS will provide an evaluation of the proposed disposal sites in Rhode Island Sound, known as Site 69B, 69A, Site 18, as well as additional alternatives including other possible open water disposal sites in this and adjacent waters, other types of dredged material disposal and management, and the no action alternative.

PURPOSE: In accordance with EPA's Notice of Policy and Procedures for Voluntary Preparation of National Environmental Policy Act documents (FR 63(209): 38045-38047), EPA issues this Notice of Intent to prepare an EIS for the evaluation of Designation of Long Term Dredged Material Disposal Sites in the Rhode Island Sound region, offshore of Rhode Island and Massachusetts.

FOR FURTHER INFORMATION CONTACT: Mr. Larry Rosenberg, Public Affairs Office, U.S. Army Corps of Engineers, 696 Virginia Road, Concord, MA 01742-2751, (978) 318-8657 email: larry.b.rosenberg@usace.army.mil or Ms. Ann Rodney, U.S. EPA—New England Region, One Congress Street, Suite 1100, CWQ Boston, MA 02114-2023, (617) 918-1538, rodney.ann@epa.gov. Please contact Ann Rodney should you have special needs (sign language interpreters, access needs) at the above address or our TDY# (617) 918-1189.

SUMMARY: There are many harbors, channels and navigation dependant facilities in Rhode Island and southeastern Massachusetts that must undergo periodic maintenance dredging to ensure safe navigation. Some harbors occasionally must be deepened beyond historical depths to meet changing economic and safety needs. Many of these necessary public and private dredging projects have not been accomplished due to the unavailability of disposal sites for dredged material. In other cases, sites on land have been used and the agency or permit applicant had no alternative but to transport the dredged material outside of the project area, which can often increase the cost of the project substantially. Prior studies directed at resolving the dredged material disposal management problem in this area were limited in scope, addressing only the immediate disposal needs of a project pending at the time. EPA issued a Notice of Intent on a similar action in July 1984. Although that study identified the need for a dredged material site in the Rhode Island/southeast Massachusetts area, local opposition at the time halted the project early in its planning stage.

Historically, only one site in Rhode Island Sound has been extensively used. Dredged material was disposed at a site near Brenton Reef pursuant to an EIS released by the Corps in 1971 for the Providence River Dredging project. Another site in the Sound near Brown's Ledge was proposed and evaluated for the Fall River Improvement Dredging project in 1980, but never used. In 1998, the Corps issued a Draft EIS for the Providence River Maintenance Dredging project that evaluated three sites in Rhode Island Sound: Site 69A, 69 B and Site 18. A final EIS is due in June 2001. If the Providence EIS results in the selection of an ocean site by the Corps, the site may be used only for a 5-10 year period after the site has been selected for the Providence River Maintenance Dredging Project. Designation of a site for long term use must be performed under a separate designation process administered by EPA. The State of Rhode Island is currently in the process of identifying potential sites in Narragansett Bay for use by private marinas in the Bay area. Even if the state effort is successful, it is anticipated that there is need for a larger regional disposal site for bigger projects. Over the last two decades, a number of studies have confirmed the need for a regional site including two needs studies performed for each state in the late 1980's and a Rhode Island Governor directed task force (1993) and Rhode Island commission (1996). In response to recent requests of Governor Almond and Senator Reed, EPA and the Corps will consider designation of a long term disposal site in Rhode Island Sound and adjacent waters under section 102(c) of the MPRSA in a forthcoming EIS. The EIS will evaluate other possible alternatives including other open water disposal sites, other disposal and management options, and the no action alternative. It must be emphasized here that designation of a site does not by itself authorize or result in disposal of any particular material. It only serves to make the designated site a disposal option available for consideration in the alternatives analysis for each individual dredging project in the area. Each future project must assess whether it meets the ocean disposal criteria for discharge at such a site and demonstrate the need for ocean disposal.

The EPA and the Corps will enter an agreement to undertake evaluation of one or more long term dredged material disposal sites in Rhode Island Sound and adjacent waters under Section 102(c) of the MPRSA. The EPA has the responsibility of designating sites under Section 102(c) of the Act and 40 CFR 228.4 of its regulation. Because of its experience with the Providence project, the Corps, which has been funded for this effort, will administer the technical studies and public participation process of the EIS with EPA oversight.

An EIS will evaluate a range of potential sites in Rhode Island Sound and adjacent waters, and the disposal and management of dredged material, including the no action alternative. The EIS will support the EPA's final decision on whether one or more dredged material disposal sites will be designated under the MPRSA. The EIS will include analysis applying the five general and 11 specific site selection criteria for designating ocean disposal sites presented in 40 CFR Parts 228.5 and 228.6, respectively. The Draft and forthcoming Final EIS for the Providence River Dredging Project will serve as a starting point for further evaluation of sites in the EPA EIS. EPA will incorporate by reference to the extent possible all data and analyses developed by the Corps in the Providence River EIS, as well as supplement this with further studies.

Need for EIS: On October 29, 1998, (63 FR 38045-38047) the EPA published repeal of its May 7, 1994 Policy for Voluntary Preparation of Environmental Impact Statements (39 FR 16186-16187) and notice of a new policy and procedures. The new policy states that EPA will prepare an Environmental Assessment or, if appropriate, an Environmental Impact Statement in connection with Agency decisions where the Agency determines that such an analysis would be beneficial. Among the criteria that may be considered in making such a determination are: (a) The potential for improved coordination with other federal agencies taking related actions; (b) the potential for using an EA or EIS to comprehensively address large-scale ecological impacts, particularly cumulative effects; (c) the potential for using an EA or an EIS to facilitate analysis of environmental justice issues; (d) the potential for using an EA or EIS to expand public involvement and to address controversial issues; and (e) the potential of using an EA or EIS to address impacts on special resources or public health. Having considered these criteria EPA has determined that an EIS for designation of dredged material disposal sites in Rhode Island Sound and adjacent waters would be beneficial.

Alternatives: In evaluating the alternatives, the EIS will identify and evaluate locations within the Rhode Island Sound study area that are best suited to receive dredged material suitable for open water marine disposal. At a minimum, the EIS will consider various alternatives including:

• No-action (i.e., no designation of any sites);

• Designation of one or more ocean sites;

• Designation of alternative open water sites identified within the study area that may offer environmental advantages to the existing sites; and

• Identification of other disposal and/or management options, either in or out of the water, including the potential for beneficial use opportunities for dredged material.

Scoping: Full public participation by interested federal, state, and local agencies as well as other interested organizations and the general public is invited. All interested parties are encouraged to submit their names and addresses to one of the addresses below, to be placed on the mailing list for reviewing any fact sheets, newsletters and related public notices. The Environmental Protection Agency—New England Region and the Corps of Engineers, New England District, will hold two public scoping meetings in May of 2001. The Massachusetts meeting will be held on May 17, 2001 at White's of Westport, 66 State Road, Westport, MA. The Rhode Island meeting will be on May 22, 2001 at the Lighthouse Inn, 307 Great Island Rd, Galillee, Narragansett, RI. Both meetings will begin at 7 p.m. with registration starting at 6 p.m. Details of the history of the project and the alternatives to be considered will be presented. The public is invited to attend and identify issues that should be addressed in the EIS.

Estimated Date of the Draft EIS Release

Summer 2003

Responsible Official: Ira Leighton, Acting Regional Administrator EPA—New England.

Dated: April 3, 2001.
Anne Norton Miller,
Acting Director, Office of Federal Activities.

[FR Doc. 01-8561 Filed 4-5-01; 8:45 am]

BILLING CODE 6560-50-P